DEPARTMENT OF TRANSPORTATION

Federal Aviation Administration

14 CFR Part 97

[Docket No. 30595; Amdt. No. 3258]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 10, 2008. The compliance date for each SIAP, associated Takeoff Minimums, and ODP is specified in the amendatory provisions.

The incorporation by reference of certain publications listed in the regulations listed in the regulations is approved by the Director of the Federal Register as of March 10, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_or_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 22, 2008.
James J. Ballough,
Director, Flight Standards Service.

Adoption of the Amendment

Accordingly, pursuant to the authority delegated to me, under title 14, Code of Federal Regulations, part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 13 MAR 2008

Bishop CA, Eastern Sierra Rgnl, RNAV (GPS) Y RWY 12, Orig

Bishop CA, Eastern Sierra Rgnl, RNAV (GPS) Z RWY 12, Orig

Effective 10 APR 2008

Anniston, AL, Anniston Metropolitan, ILS OR LOC RWY 5, Amdt 2

Anniston, AL, Anniston Metropolitan, RNAV (GPS) RWY 5, Orig

Anniston, AL, Anniston Metropolitan, RNAV (GPS) RWY 23, Orig

Anniston, AL, Anniston Metropolitan, NDB RWY 5, Amdt 3

Anniston, AL, Anniston Metropolitan, Takeoff Minimums and Obstacle DP, Amdt 6

Dothan, AL, Dothan Regional, ILS OR LOC RWY 14, Orig

Mobile, AL, Mobile Regional, Takeoff Minimums and Obstacle DP, Amdt 1

Palmer, AK, Palmer Muni, RNAV (GPS)-A, Orig

Palmer, AK, Palmer Muni, RNAV (GPS) RWY 9, Orig

Palmer, AK, Palmer Muni, GPS-A, Orig CANCELLED

Palmer, AK, Palmer Muni, Takeoff Minimums and Obstacle DP, Amdt 2

Venetie, AK, Venetie, RNAV (GPS) RWY 4, ORIG

Venetie, AK, Venetie, RNAV (GPS) RWY 22, ORIG

Venetie, AK, Venetie, Takeoff Minimums and Obstacle DP, Orig

Yakutat, AK, Yakutat, RNAV (GPS) RWY 11, Amdt 1A

Yukutat, AK, Yakutat, RNAV (GPS) RWY 29, Amdt 2

Yukutat, AK, Yukutat, LOC/DME BC RWY 29, Amdt 5

Sedona, AZ, Sedona, Takeoff Minimums and Obstacle DP, Amdt 1

Alturas, CA, Alturas Muni, Takeoff Minimums and Obstacle DP, Amdt 2

Fresno, CA, Fresno Yosemite Intl, ILS OR LOC/DME RWY 29R, ILS RWY 29R (CAT II), ILS RWY 29R (CAT III), Amdt 37

Los Angeles, CA, Los Angeles Intl, ILS OR LOC RWY 7L, Amdt 6B

Los Angeles, CA, Los Angeles Intl, ILS OR LOC RWY 7R, Amdt 5A

Palm Springs, CA, Palm Springs Intl, Takeoff Minimums and Obstacle DP, Amdt 5

Sacramento, CA, McClellan Airfield, Takeoff Minimums and Obstacle DP, Amdt 1

Santa Barbara, CA, Santa Barbara Muni, ILS OR LOC RWY 7, Amdt 5

Santa Barbara, CA, Santa Barbara Muni, RNAV (GPS) RWY 7, Orig

Cairo, GA, Cairo-Grady County, RNAV (GPS) RWY 13, Orig

Cairo, GA, Cairo-Grady County, RNAV (GPS) RWY 31, Orig

Cairo, GA, Cairo-Grady County, NDB RWY 13, Amdt 4

Cairo, GA, Cairo-Grady County, Takeoff Minimums and Obstacle DP, Amdt 2

Monroe, GA, Monroe-Walton County, Takeoff Minimums and Obstacle DP, Amdt 1

Council Bluffs, IA, Council Bluffs Muni, RNAV (GPS) RWY 18, Orig

Council Bluffs, IA, Council Bluffs Muni, RNAV (GPS) RWY 36, Orig

Council Bluffs, IA, Council Bluffs Muni, VOR-A, Amdt 5

Council Bluffs, IA, Council Bluffs Muni, Takeoff Minimums and Obstacle DP, Orig

Rantoul, IL, Rantoul Natl Avn Cntr/Frank Elliott Fld, RNAV (GPS) RWY 9, Amdt 1

Rantoul, IL, Rantoul Natl Avn Cntr/Frank Elliott Fld, RNAV (GPS) RWY 27, Amdt 1

Rantoul, IL, Rantoul Natl Avn Cntr/Frank Elliott Fld, Takeoff Minimums and Obstacle DP, Orig

Auburn, IN, Dekalb County, ILS OR LOC RWY 27, Amdt 1

French Lick, IN, French Lick Muni, RNAV (GPS) RWY 8, Orig

French Lick, IN, French Lick Muni, GPS RWY 8, Orig, CANCELLED

French Lick, IN, French Lick Muni, Takeoff Minimums and Obstacle DP, Orig

Lexington, KY, Blue Grass, VOR-A, Amdt 9A

New Orleans, LA, Lakefront, ILS OR LOC RWY 18R, Orig

New Orleans, LA, Lakefront, RNAV (GPS) RWY 18R, Amdt 1

New Orleans, LA, Lakefront, VOR RWY 18R, Amdt 4A, CANCELLED

Bangor, ME, Bangor Intl, Takeoff Minimums and Obstacle DP, Amdt 1

Ludington, MI, Mason County, RNAV (GPS) RWY 8, Orig

Ludington, MI, Mason County, RNAV (GPS) RWY 26, Orig

Ludington, MI, Mason County, GPS RWY 26, Orig-A, CANCELLED

Romeo, MI, Romeo State, Takeoff Minimums and Obstacle DP, Amdt 4

International Falls, MN, Falls, Intl, ILS OR LOC/DME RWY 13, Amdt 1

International Falls, MN, Falls Intl, RNAV (GPS) RWY 13, Orig

International Falls, MN, Falls Intl, RNAV (GPS) RWY 31, Orig

International Falls, MN, Falls Intl, NDB RWY 31, Amdt 9

International Falls, MN, Falls Intl, VOR RWY 13, Amdt 14

International Falls, MN, Falls Intl, Takeoff Minimums and Obstacle DP, Amdt 3

Minneapolis, MN, Mineapolis-St Paul Int/Wold-Chamberlain, ILS OR LOC RWY 30R, Amdt 12

Minneapolis, MN, Mineapolis-St Paul Int/Wold-Chamberlain, COPTER ILS OR LOC RWY 30R, Amdt 1, CANCELLED

Warroad, MN, Warroad Intl Memorial, RNAV (GPS) RWY 13, Orig

Warroad, MN, Warroad Intl Memorial, RNAV (GPS) RWY 31, Orig

Warroad, MN, Warroad Intl Memorial, NDB RWY 13, Amdt 2

Warroad, MN, Warroad Intl Memorial, Takeoff Minimums and Obstacle DP, Orig

Columbia, MS, Columbia-Marion County, RNAV (GPS) RWY 23, Orig

Columbia, MS, Columbia-Marion County, VOR/DME OR GPS RWY 23, Amdt 4A, CANCELLED

Fulton, MO, Elton Hensley Memorial, RNAV (GPS) RWY 5, Orig

Fulton, MO, Elton Hensley Memorial, RNAV (GPS) RWY 23, Orig

Fulton, MO, Elton Hensley Memorial, VOR/DME RNAV OR GPS RWY 5, Amdt 1, CANCELLED

Fulton, MO, Elton Hensley Memorial, Takeoff Minimums and Obstacle DP, Orig

Lamar, MO, Lamar Muni, RNAV (GPS) RWY 3, Orig

Lamar, MO, Lamar Muni, NDB RWY 3, Amdt 1

Lamar, MO, Lamar Muni, Takeoff Minimums and Obstacle DP, Orig

Ozark, MO, Air Park South, VOR OR GPS RWY 17, Amdt 4B, CANCELLED

Charlotte, NC, Charlotte/Douglas Intl, Takeoff Minimums and Obstacle DP, Amdt 3

Concord, NC, Concord Rgnl, Takeoff Minimums and Obstacle DP, Amdt 2

Gastonia, NC, Gastonia Muni, Takeoff Minimums and Obstacle DP, Amdt 4

Fremont, NE, Fremont Muni, VOR RWY 14, Amdt 2

Fremont, NE, Fremont Muni, Takeoff Minimums and Obstacle DP, Amdt 5

Las Cruces, NM, Las Cruces Intl, ILS OR LOC RWY 30, Amdt 2A

Cambridge, OH, Cambridge Muni, LOC/DME RWY 22, Amdt 1

Lancaster, OH, Fairfield County, RNAV (GPS) RWY 10, Orig

Lancaster, OH, Fairfield County, RNAV (GPS) RWY 28, Orig

Lancaster, OH, Fairfield County, VOR/DME RNAV OR GPS RWY 10, Amdt 10A, CANCELLED

Lancaster, OH, Fairfield County, NDB OR GPS RWY 28, Amdt 8A, CANCELLED

Marion, OH, Marion Muni, RNAV (GPS) RWY 13, Orig

Marion, OH, Marion Muni, NDB OR GPS RWY 13, Amdt 4B, CANCELLED

Wadsworth, OH, Wadsworth Muni, Takeoff Minimums and Obstacle DP, Amdt 1

Youngstown/Warren, OH, Youngstown-Warren Rgnl, ILS OR LOC RWY 14, Amdt 7

Youngstown/Warren, OH, Youngstown-Warren Rgnl, ILS OR LOC RWY 32, Amdt 26

Youngstown/Warren, OH, Youngstown-Warren Rgnl, NDB RWY 32, Amdt 19

Youngstown/Warren, OH, Youngstown-Warren Rgnl, RNAV (GPS) RWY 14, Orig

Youngstown/Warren, OH, Youngstown-Warren Rgnl, RNAV (GPS) RWY 32, Orig

El Reno, OK, El Reno Regional, GPS RWY 35, Orig, CANCELLED

Dubois, PA, Dubois Rgnl, RNAV (GPS) RWY 7, Orig-A

Dubois, PA, Dubois Rgnl, VOR/DME RWY 7, Amdt 3A

Dubois, PA, Dubois Rgnl, Takeoff Minimums and Obstacle DP, Amdt 1

Newport, RI, Newport State, RNAV (GPS) RWY 16, Orig

Newport, RI, Newport State, VOR/DME RWY 16, Amdt 1

Rock Hill, SC, Rock Hill/York Co/Bryant Field, Takeoff Minimums and Obstacle DP, Orig

Memphis, TN, Memphis Intl, Takeoff Minimums and Obstacle DP, Amdt 2

Union City, TN, Everett-Stewart Regional, Takeoff Minimums and Obstacle DP, Orig

Austin, TX, Lakeway Airpark, Takeoff Minimums and Obstacle DP, Amdt 1

Graham, TX, Graham Muni, RNAV (GPS) RWY 3, Orig

Graham, TX, Graham Muni, RNAV (GPS) RWY 21, Orig

Graham, TX, Graham Muni, NDB OR GPS RWY 21, Amdt 2, CANCELLED

Rutland, VT, Rutland State, LOC Y RWY 19, Amdt 2

Rutland, VT, Rutland State, LOC Z RWY 19, Orig

Burlington, WI, Burlington Muni, RNAV (GPS) RWY 29, Orig

Burlington, WI, Burlington Muni, VOR RWY 29, Amdt 8

The FAA published an Amendment in Docket No. 30591, Amdt No. 3254 to Part 97 of the Federal Aviation Regulations (Vol 73, FR No. 27, Page 7462 dated Friday, February 08, 2008) under section 97.33, effective March 13, 2008 which is hereby rescinded:

Las Cruces, NM, Las Cruces Intl, ILS OR LOC RWY 30, Amdt 2A

[FR Doc. 08-933 Filed 3-7-08; 8:45 am]

BILLING CODE 4910-13-M